DEPARTMENT OF THE INTERIOR

Fish and Wildlife Service

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council (TMC). Primary objectives of the meeting will include discussion of the following topics: Trinity River Restoration Program (TRRP) budget, channel rehabilitation progress and planning, TRRP science program, Klamath and Trinity river conditions, TRRP decision-making process, TAMWG-TMC communications, and experience with restoration efforts elsewhere. Completion of the agenda is dependent on the amount of time each item takes. The meeting could end early if the agenda has been completed. The meeting is open to the public.

DATES: The Trinity Adaptive Management Working Group will meet from 9 a.m. to 5 p.m. on Tuesday, September 11, 2007.

ADDRESSES: The meeting will be held at the Weaverville Victorian Inn, 1709 Main St., 299 West, Weaverville, CA 96093.

FOR FURTHER INFORMATION CONTACT: Randy A. Brown of the U.S. Fish and Wildlife Service, 1655 Heindon Road, Arcata, CA 95521. Telephone: (707) 822-7201. Randy A. Brown is the working group's Designated Federal Officer. For background information and questions regarding the Trinity River Restoration Program, please contact Douglas Schleusner, Executive Director, P.O. Box 1300, 1313 South Main Street, Weaverville, CA 96093. Telephone: (530) 623-1800.

SUPPLEMENTARY INFORMATION: Under section 10(a)(2) of the Federal Advisory Committee Act (5 U.S.C. App.), this notice announces a meeting of the Trinity Adaptive Management Working Group (TAMWG).

Dated: August 1, 2007.
Randy A. Brown,
Designated Federal Officer, Arcata Fish and Wildlife Office, Arcata, CA.

[FR Doc. E7-16307 Filed 8-17-07; 8:45 am]

BILLING CODE 4310-55-P